DEPARTMENT OF LABOR

Employment and Training Administration

[TA-W-62,129]

Alyeska Pipeline Service Company, Anchorage, AK; Notice of Termination of Investigation

Pursuant to section 221 of the Trade Act of 1974, as amended, an investigation was initiated on September 11, 2007 in response to a worker petition filed by a company official on behalf of workers of Alyeska Pipeline Services, Anchorage, Alaska.

The petitioner has requested that the petition be withdrawn. Consequently, the investigation has been terminated.

Signed at Washington, DC this 12th day of October 2007.
Richard Church,
Certifying Officer, Division of Trade Adjustment Assistance.

[FR Doc. E7-20728 Filed 10-19-07; 8:45 am]

BILLING CODE 4510-FN-P